DEPARTMENT OF COMMERCE

National Oceanic and Atmospheric Administration

50 CFR Part 635

RIN 0648-BB29

Atlantic Highly Migratory Species; 2006 Consolidated Highly Migratory Species Fishery Management Plan; Amendment 5

AGENCY: National Marine Fisheries Service (NMFS), National Oceanic and Atmospheric Administration (NOAA), Commerce.

ACTION: Notice of public hearings.

SUMMARY: On November 26, 2012, NMFS published a proposed rule for Amendment 5 to the 2006 Consolidated Highly Migratory Species (HMS) Fishery Management Plan (FMP) in response to several shark stock assessments that were completed from 2009 to 2012. As described in the proposed rule, NMFS is proposing measures that would reduce fishing mortality and effort in order to rebuild overfished Atlantic shark species while ensuring that a limited sustainable shark fishery can be maintained consistent with our legal obligations. The proposed measures include changes to commercial quotas and species groups, the creation of several time/area closures, a change to an existing time/area closure, an increase in the recreational minimum size restrictions, and the establishment of recreational reporting for certain species of sharks. Comments received by NMFS will be considered in the development and finalization of Amendment 5 to the 2006 Consolidated HMS FMP. This notice announces public hearings, conference calls, and an HMS Advisory Panel meeting to discuss the proposed rule.

DATES: Written comments will be accepted until February 12, 2013. Public hearings, conference calls, and an HMS Advisory Panel meeting for the Amendment 5 proposed rule will be held from December 2012 to February 2013. See SUPPLEMENTARY INFORMATION for meeting dates, times, and locations.

ADDRESSES: Public hearings will be held in Massachusetts, New Jersey, North Carolina, Florida, and Louisiana, and via phone call/webinar. NMFS will hold an HMS Advisory Panel meeting in Maryland. See SUPPLEMENTARY INFORMATION for dates, times, and locations.

You may submit comments on this document, identified by NOAA-NMFS-2012-0161, by any of the following methods:

• Submission: Submit all electronic public comments via the Federal e-Rulemaking Portal www.regulations.gov. To submit comments via the e-Rulemaking Portal, first click the “submit a comment” icon, then enter NOAA-NMFS-2012-0161 in the keyword search. Locate the document you wish to comment on from the resulting list and click on the “Submit a Comment” icon on the right of that line.

• Mail: Submit written comments to Peter Cooper, 1315 East-West Highway, Silver Spring, MD 20910. Please mark the outside of the envelope “Comments on the Draft Amendment 5 to the 2006 Consolidated HMS FMP.”

• Fax: 301-713-1917; Attn: Peter Cooper.

Instructions: Comments must be submitted by one of the above methods to ensure that the comments are received, documented, and considered by NMFS. Comments sent by any other method, to any other address or individual, or received after the end of the comment period, may not be considered. All comments received are a part of the public record and generally will be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

FOR FURTHER INFORMATION CONTACT: Peter Cooper, Guý DuBeck, Michael Clark, or Karyl Brewster-Geisz at 301-427-8503.

SUPPLEMENTARY INFORMATION: The Atlantic shark fisheries are managed under the Magnuson-Stevens Act. Management of these species is described in the 2006 Consolidated HMS FMP, which is implemented by regulations at 50 CFR part 635. Copies of the 2006 Consolidated HMS FMP and amendments are available from NMFS on request (see FOR FURTHER INFORMATION CONTACT).

On November 26, 2012 (77 FR 70552), NMFS published a proposed rule for draft Amendment 5 to the 2006 Consolidated HMS FMP based on several shark stock assessments that were completed from 2009 to 2012. The assessments for Atlantic blacknose, dusky, and scalloped hammerhead sharks indicated that these species are overfished and experiencing overfishing. As described in the proposed rule, NMFS is proposing measures that would reduce fishing mortality and effort in order to rebuild overfished Atlantic shark species while ensuring that a limited sustainable shark fishery can be maintained consistent with our legal obligations and the 2006 Consolidated HMS FMP. The proposed measures include changes to commercial quotas and species groups, the creation of several time/area closures, a change to an existing time/area closure, an increase in the recreational minimum size restrictions, and the establishment of recreational reporting for certain species of sharks. Any comments received during the comment period will be considered in the development and finalization of Amendment 5 to the 2006 Consolidated HMS FMP.

Request for Comments

Six public hearings will be held in Florida (2), Louisiana, Massachusetts, New Jersey, and North Carolina to provide the opportunity for public comment on the measures described in the proposed rule and draft Amendment 5. NMFS will also hold two public conference calls/webinars to provide individuals opportunity to submit public comment if they are unable to attend a public hearing.

NMFS expects to consult with the HMS Advisory Panel on January 8, 2013, on the proposed rule and draft Amendment 5. This HMS Advisory Panel meeting will consist of a presentation of the proposed measures followed by a discussion with the Advisory Panel. There will also be an opportunity for public comment in an open session after the Advisory Panel discussion. See Table 1 for times, dates, and location.

NMFS has also asked to present information on the proposed rule and draft Amendment 5 to the Caribbean, Gulf of Mexico, South Atlantic, Mid-Atlantic, and New England Fishery Management Councils. Information on the date and time of those presentations will be provided on the appropriate council agenda.

Table 1—Dates, Times and Locations of Upcoming Public Hearings, Conference Calls, and HMS Advisory Panel Meeting
Venue | Date/time | Meeting locations | Location contact information
HMS Advisory Panel Meeting | January 8, 2013, 10 a.m.-3 p.m. | Silver Spring, MD | Silver Spring Civic Center, One Veteran's Place, Silver Spring, MD 20910, (240) 777-5350.
Conference call/Webinar | January 9, 2013, 1 p.m.-4 p.m. |  | To participate in conference call, call: (888) 469-2979, Passcode: 2809363, To participate in webinar, RSVP at: https://www1.gotomeeting.com/register/74030603, A confirmation email with webinar log-in information will be sent after RSVP is registered.
Public Hearing | January 17, 2013, 5 p.m.-8 p.m. | Vero Beach, FL | Vero Beach Community Center, 2266 14th Avenue, Vero Beach, FL 32960, (772) 770-6517.
Public Hearing | January 15, 2013, 4 p.m.-7 p.m. | Madeira Beach, FL | Gulf Beaches Public Library, 100 Municipal Drive, Madeira Beach, FL 33708, (727) 391-2828.
Public Hearing | January 22, 2013, 5 p.m.-8 p.m. | Manalapan, NJ | Monmouth County Public Library—Headquarters, 125 Symmes Road, Manalapan, NJ 07726, (732) 431-7220.
Public Hearing | January 24, 2013, 5 p.m.-8 p.m. | Manteo, NC | Commissioner's Meeting Room, Dare County Administration Building, 954 Marshall C. Collins Drive, Manteo, NC 27954.
Public Hearing | January 30, 2013, 5 p.m.-8 p.m. | Gloucester, MA | NOAA Fisheries Service, 55 Great Republic Drive, Gloucester, MA.
Public Hearing | February 7, 2013, 5 p.m.-8 p.m. | Belle Chasse, LA | Belle Chasse Auditorium, 8398 Hwy 23, Belle Chasse, LA 70037.
Conference Call | February 5, 2013, 5 p.m.-8 p.m. |  | To participate in conference call, call: (888) 469-2979, Passcode: 2809363, To participate in webinar, RSVP at: https://www1.gotomeeting.com/register/623300105, A confirmation email with webinar log-in information will be sent after RSVP is registered.

NMFS welcomes comments on any aspect or alternative considered in the proposed rule. NMFS is specifically seeking comments on the administration of dusky shark bycatch caps program in select areas given limited additional observer program resources; the name of reconfigured groupings of sharks that would continue to be managed collectively in the reminder of what is currently the large coastal shark complex for quota monitoring purposes; suggestions for improving angler identification of shark species and reducing dusky shark mortality in the recreational fishery; and whether NMFS should permit the transit of closed areas if certain otherwise prohibited gear is properly stowed and inoperable.

Public Hearing Code of Conduct

The public is reminded that NMFS expects participants at public hearings and on phone conferences to conduct themselves appropriately. At the beginning of each meeting, a representative of NMFS will explain the ground rules (e.g., alcohol is prohibited from the meeting room; attendees will be called to give their comments in the order in which they registered to speak; each attendee will have an equal amount of time to speak; attendees may not interrupt one another; etc.). The NMFS representative will structure the meeting so that all attending members of the public will be able to comment, if they so choose, regardless of the controversial nature of the subject(s). Attendees are expected to respect the ground rules, and those that do not will be asked to leave the meeting.

Authority: 16 U.S.C. 971 et seq.; 16 U.S.C. 1801 et seq.

Dated: December 5, 2012.
Emily H. Menashes,
Deputy Director, Office of Sustainable Fisheries, National Marine Fisheries Service.

[FR Doc. 2012-29899 Filed 12-10-12; 8:45 am]

BILLING CODE 3510-22-P